DEPARTMENT OF TRANSPORTATION

Federal Aviation Administration

14 CFR Part 71

[Airspace Docket No. 02-AAL-1]

Revision of Class E Airspace; Cordova, AK; Correction

AGENCY: Federal Aviation Administration (FAA), DOT.

ACTION: Final rule; correction.

SUMMARY: This action corrects an error on one of the bearings listed in the revised Class E airspace description at Cordova, AK, in the final rule and the coordinates for the exclusion line that were published in the Federal Register on July 25, 2002 (67 FR 48545), Airspace Docket 02-AAL-1.

EFFECTIVE DATE: 0901 UTC, October 3, 2002.

FOR FURTHER INFORMATION CONTACT: Derril Bergt, Operations Branch, AAL-538, Federal Aviation Administration, 222 West 7th Avenue, Box 14, Anchorage, AK 99513-7587; telephone number (907) 271-2796; fax: (907) 271-2850; e-mail: Derril.ctr.Bergt@faa.gov. Internet address: http://www.alaska.faa.gov/at or at address http://162.58.28.41/at.

SUPPLEMENTARY INFORMATION:

History

Federal Register Document 02-18620, Airspace Docket 02-AAL-1, published on July 25, 2002 (67 FR 48545) revised the Class E airspace area at Cordova, AK. The verbiage “* * * 060° bearing from the Glacier River NDB extending from the 4.1-mile radius to 6 miles northeast * * *” should read “* * * 114° bearing from the Glacier River NDB extending from the 4.1-mile radius to 6 miles southeast * * *” and the verbiage “* * * from lat. 60° 31′ 00″ N, long. 145° 20′ 00″ W; to lat. 60° 31′ 03″ N, long. 145° 20′ 59″ W.” should read “* * * from lat. 60° 31′ 03″ N, long. 145° 20′ 59″ W; to lat. 60° 32′ 45″ N, long. 145° 33′ 43″ W.” This action corrects these errors.

Correction to Final Rule

Accordingly, pursuant to the authority delegated to me, the Class E description listed for the Cordova, Merle K. (Mudhole) Airport as published in the Federal Register on July 25, 2002 (67 FR 48545), (Federal Register Document 02-18620), is corrected as follows:

§ 71.1 [Corrected]

1. On page 48546, in column one, the Class E airspace description for Cordova, AK, is corrected to read as follows:

* * * * *

AAL AK E2 Cordova, AK [Corrected]

Cordova, Merle K. (MUDHOLE) Smith Airport, AK

(Lat. 60° 29′ 31″ N., long. 145° 28′ 39″ W.)

Glacier River NDB

(Lat. 60° 29′ 56″ N., long. 145° 28′ 28″ W.)

Within a 4.1 mile radius of the Merle K. (Mudhole) Smith airport and within 2.1 miles each side of the 222° bearing from the Glacier River NDB extending from the 4.1 mile radius to 10 miles southwest of the airport and within 2 miles either side of the 114° bearing from the Glacier River NDB extending from the 4.1-mile radius to 6 miles southeast of the airport and within 2.2 miles each side of the 142° bearing from the NDB extending from the 4.1-mile radius to 10.4 miles southeast of the airport, excluding that airspace north of a line from lat. 60° 31′ 03″ N, long. 145° 20′ 59″ W; to lat. 60° 32′ 45″ N, long. 145° 33′ 43″ W.

* * * * *

Issued in Anchorage, AK, on August 5, 2002.
Stephen P. Creamer,
Assistant Manager, Air Traffic Division, Alaskan Region.

[FR Doc. 02-21134 Filed 8-27-02; 8:45 am]

BILLING CODE 4910-13-P